DEPARTMENT OF LABOR

Employment and Training Administration

[TA-W-62,655]

Warp Processing Company, Inc. Exeter, PA; Notice of Revised Determination on Remand

On February 20, 2009, the U.S. Court of International Trade (USCIT) remanded to the U.S. Department of Labor (Department) for further review Former Employees of Warp Processing Company, Inc. v. United States, Court No. 08-00179.

The investigation was initiated on January 10, 2008, by three petitioning workers for Trade Adjustment Assistance (TAA) and Alternative Trade Adjustment Assistance (ATAA) on behalf of workers and former workers of Warp Processing Company, Inc., Exeter, Pennsylvania (subject firm). The petition stated that the subject firm produced warped synthetic fibers, the subject firm's customers increased imports from a foreign country, and the subject firm supplied component parts for articles produced by firms with currently TAA-certified worker groups. AR 3-5, 7.

The petition also states that the subject firm furloughed forty-seven workers, AR 4,6, and that the imported article are not beamed fibers but “fabric and other finished product.” AR 7.

The petition further states that “At Warp Processing we supply the component part for the finished products. We supply our customers with warped synthetic fibers and then they weave it into fabric and material and produce the finished product. Our company is an upstream supplier and/or a downstream producer to a certified primary firm and is secondarily affected.” AR 7.

The negative determination applicable to the subject workers stated that the subject firm “warped synthetic fibers” and that “Warping is a process by which yarn is placed onto beams for the textile industry.” The determination also stated that the subject firm did not import warped synthetic fibers or shift production to a foreign country, the subject firm's major declining customers did not import like or directly competitive articles, and the subject workers did not qualify as adversely affected secondary workers. The negative determination was signed on February 19, 2008. AR 109-113. The Department's Notice of determination was published in the Federal Register on March 7, 2008 (73 FR 12466). AR 126.

In a submission dated March 14, 2008, the petitioners requested administrative reconsideration of the Department's negative determination, stated that the information received by the Department was erroneous and re-asserted that the workers qualify as adversely affected secondary workers. AR 136-139.

Stating that the requirement identified in 29 CFR 90.18 (Reconsideration of determination) was not met, the Department issued a Notice of Negative Determination Regarding Application for Reconsideration on March 18, 2008. AR 140-143. The Notice was published in the Federal Register on March 26, 2008 (73 FR 16066).

By letter dated May 16, 2008, Plaintiffs filed a complaint with the USCIT. The Plaintiffs asserted that the subject workers are eligible to apply for TAA as either adversely affected primary workers or adversely affected secondary workers. On February 20, 2009, the USCIT remanded the matter to the Department.

To apply for worker adjustment assistance under Section 222(a)(2)(A) of the Trade Act of 1974, as amended, petitioning workers must meet the following group eligibility requirements:

A. A significant number or proportion of the workers in such workers' firm, or an appropriate subdivision of the firm, have become totally or partially separated, or are threatened to become totally or partially separated; and

B. The sales or production, or both, of such firm or subdivision have decreased absolutely; and

C. Increased imports of articles like or directly competitive with articles produced by such firm or subdivision have contributed importantly to such workers' separation or threat of separation and to the decline in sales or production of such firm or subdivision.

The intent of the Department is for a certification to cover all workers of the subject firm or appropriate subdivision who were adversely affected by increased imports of the article produced by the firm or a shift in production of the article, based on the investigation of the TAA/ATAA petition.

For purposes of the Trade Act, a “firm, together with any predecessor or successor-in-interest, or together with any affiliated firm controlled or substantially beneficially owned by substantially the same persons, may be considered a single firm.” 29 CFR 90.2 (definition of “firm”)

During the remand investigation, the Department obtained additional information that establishes that although Brawer Bros, Inc. and the subject firm are separate entities, they are controlled by the same owners. Further, because the function performed by Warp Processing Company, Inc. supports the production of knit fabric at Brawer Bros, Inc., the subject workers are engaged in activity related to the production of knit fabric. Therefore, the Department determines that, in the case at hand, the subject firm is “Warp Processing Company, Inc. and Brawer Bros, Inc.,” Warp Processing Company, Inc. is an affiliate of the firm, and the article at issue is knit fabric.

A careful review of the administrative record reveals that a significant number or proportion of workers at Warp Processing Company, Inc. has been separated or threatened with separation. Therefore, the Department determines that the first criterion of Section 222(a)(2)(A) has been met.

A careful review of the administrative record reveals that sales and production at Warp Processing Company, Inc. have absolutely declined. Therefore, the Department determines that the second criterion of Section 222(a)(2)(A) has been met.

During the remand investigation, the Department conducted a survey of the subject firm's major declining customers. The survey revealed increased imports during the relevant period of articles like or directly competitive with those produced by the subject firm which contributed importantly to worker separations at Warp Processing Company, Inc. and to the subject firm's sales/production declines. Therefore, the Department determines that the third criterion of Section 222(a)(2)(A) has been met.

Based on the above information, the Department determines that the petitioning workers are eligible to apply for TAA and, therefore, it is moot whether or not the workers are eligible to apply for TAA as adversely affected secondary workers.

In accordance with Section 246 of the Trade Act of 1974 (26 USC 2813), as amended, the Department herein presents the results of its investigation regarding certification of eligibility to apply for ATAA. The Department has determined in this case that the group eligibility requirements of Section 246 have been met.

A significant number of workers at Warp Processing Company, Inc. are age 50 or over and possess skills that are not easily transferable. Competitive conditions within the knit fabric industry are adverse.

Conclusion

After careful review of the facts developed in the remand investigation, I determine that there was a separation of a significant number or proportion of workers at the subject firm or appropriate subdivision, that there were subject firm sales and production declines, and that increased imports of articles like or directly competitive with knit fabric produced by the subject firm contributed importantly to the subject firm's declines and the workers' separations.

In accordance with the provisions of the Act, I make the following certification:

“All workers of Warp Processing Company, Inc., Exeter, Pennsylvania, who became totally or partially separated from employment on or after January 9, 2007, through two years from this revised determination, are eligible to apply for Trade Adjustment Assistance under Section 223 of the Trade Act of 1974, and are eligible to apply for alternative trade adjustment assistance under Section 246 of the Trade Act of 1974.”

Signed at Washington, DC this 1st day of May 2009.
Elliott S. Kushner,
Certifying Officer, Division of Trade Adjustment Assistance.

[FR Doc. E9-11431 Filed 5-15-09; 8:45 am]

BILLING CODE 4510-FN-P